DEPARTMENT OF THE INTERIOR

National Park Service

[N6615; NPS-WASO-NAGPRA-NPS0041346; PPWOCRADN0-PCU00RP14.R50000]

Notice of Inventory Completion: Peabody Essex Museum, Salem, MA

AGENCY: National Park Service, Interior.

ACTION: Notice.

SUMMARY: In accordance with the Native American Graves Protection and Repatriation Act (NAGPRA), the Peabody Essex Museum has completed an inventory of associated funerary objects and has determined that there is a cultural affiliation between the associated funerary objects and Indian Tribes or Native Hawaiian organizations in this notice.

DATES: Repatriation of the associated funerary objects in this notice may occur on or after January 15, 2026.

ADDRESSES: Send written requests for repatriation of the associated funerary objects in this notice to Kelly Ferguson, NAGPRA Project Manager, Peabody Essex Museum, 161 Essex Street, Salem, MA 01970, email kelly_ferguson@pem.org.

SUPPLEMENTARY INFORMATION: This notice is published as part of the National Park Service's administrative responsibilities under NAGPRA. The determinations in this notice are the sole responsibility of the Peabody Essex Museum, and additional information on the determinations in this notice, including the results of consultation, can be found in its inventory or related records. The National Park Service is not responsible for the determinations in this notice.

Abstract of Information Available

The three associated funerary objects are fragments of dark brown, patterned burial kapa. Two fragments have a pattern of small triangles and one fragment is patterned with thin stripes.

Prior to 1938, Marcia Brown Bishop collected the kapa fragments in Hawai'i. Her catalog indicates they came from a burial cave. In 1938, she deposited the fragments at the Peabody Museum of Salem for an exhibition. In 1966, the museum purchased the items as part of the Marcia Brown [Richards] Bishop Collection. Consultation with representatives of Hui Iwi Kuamo'o indicates these items were used as burial kapa and were likely from Kanupa Cave, based on similarity to other pieces from this site.

The museum has no record of any potentially hazardous substances used to treat any of the human remains or associated funerary objects.

Cultural Affiliation

Based on the information available and the results of consultation, cultural affiliation is clearly identified by the information available about the associated funerary objects described in this notice.

Determinations

The Peabody Essex Museum has determined that:

• The three objects described in this notice are reasonably believed to have been placed intentionally with or near individual human remains at the time of death or later as part of the death rite or ceremony.

• There is a connection between the associated funerary objects described in this notice and the Hui Iwi Kuamo'o.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after January 15, 2026. If competing requests for repatriation are received, the Peabody Essex Museum must determine the most appropriate requestor prior to repatriation. Requests for joint repatriation of the associated funerary objects are considered a single request and not competing requests. The Peabody Essex Museum is responsible for sending a copy of this notice to the Indian Tribes and Native Hawaiian organizations identified in this notice and any other consulting parties.

Authority: Native American Graves Protection and Repatriation Act, 25 U.S.C. 3003, and the implementing regulations, 43 CFR 10.10.

Dated: November 17, 2025.
Melanie O'Brien,
Manager, National NAGPRA Program.

[FR Doc. 2025-22890 Filed 12-15-25; 8:45 am]

BILLING CODE 4312-52-P